DEPARTMENT OF THE INTERIOR

Fish and Wildlife Service

Information Collection to be Submitted to the Office of Management and Budget (OMB) for Approval Under the Paperwork Reduction Act; OMB Control Number 1018-0093, Applications for Permits

AGENCY: Fish and Wildlife Service, Interior.

ACTION: Notice; request for comments.

SUMMARY: The U.S. Fish and Wildlife Service (We) will submit the collection of information described below to OMB for approval under the provisions of the Paperwork Reduction Act. An estimate of the information collection burden is included in this notice. If you wish to obtain copies of the proposed information collection requirement, related forms, and/or explanatory material, contact the Service Information Collection Clearance Officer at the address listed below.

DATES: You must submit comments on or before May 30, 2003.

ADDRESSES: Send your comments and suggestions on specific requirements to the Information Collection Clearance Officer, U.S. Fish and Wildlife Service, MS 222-ARLSQ, 4401 N. Fairfax Drive, Arlington, VA 22203.

FOR FURTHER INFORMATION CONTACT: To request a copy of the information collection submission, explanatory information, and/or related forms, contact Anissa Craghead, Information Collection Clearance Officer at 703-358-2445, electronically at Anissa_Craghead@fws.gov, or Amy Brisendine at 703-358-2104 ext. 5100, electronically at Amy_Brisendine@fws.gov.

SUPPLEMENTARY INFORMATION: OMB regulations at 5 CFR 1320, which implement provisions of the Paperwork Reduction Act of 1995 (44 U.S.C. 3501 et seq.), require that interested members of the public and affected agencies be given an opportunity to comment on information collection and record keeping activities (see 5 CFR 1320.8(d)). We are submitting a request to OMB to approve: (1) The revision of the collection of information for many of the Service's permit applications (Form numbers 3-200-19 through 3-200-37, 3-200-39 through 3-200-53, and 3-200-58, currently approved under OMB control number 1018-0093); (2) the addition of forms 3-200-64 through 3-200-66, and 3-200-73; and (3) the deletion of forms 3-200-38 and 3-200-51. All of these forms are used by the Division of Management Authority, International Affairs. We are requesting a three-year term of approval for this information collection activity. Federal agencies may not conduct or sponsor, and a person is not required to respond to a collection of information unless it displays a currently valid OMB control number. The OMB control number for this collection of information is 1018-0093.

Revisions to the currently approved forms include modification of the format and content of the application forms so that they will be easier to understand and easier for the applicant to complete. We are removing one application form (3-200-38, Import of Wildlife Samples, CITES and/or ESA) from the information collection approval request because it is being combined with form 3-200-29, Import/Export/Re-Export of Samples (Wildlife and/or Biomedical Samples) (CITES and/or ESA). We are also removing Form 3-200-51, Approval of a Foreign Breeding Facility Under WBCA, from the information collection approval request because the regulations (50 CFR 15.41) have not yet been developed. Five new forms have been added to the information collection in order to simplify the information collection process on the public in terms of reporting requirements. The new forms (3-200-58, 3-200-64 through 3-200-66, and 3-200-73) are noted in the table below. In addition, we are requesting that Form 3-200-26, which is currently approved under OMB control number 1018-0092, be transferred to this collection.

We invite comments concerning this renewal on: (1) Whether the collection of information is necessary for the proper performance of the functions of the agency, including whether the information will have practical utility; (2) the accuracy of the agency's estimate of burden on the public; (3) ways to enhance the quality, utility and clarity of the information to be collected; and (4) ways to minimize the burden of the collection of information on those who are to respond. The information collections in this program are part of a system of records covered by the Privacy Act (5 U.S.C. 552 (a)).

The information obtained from the applications for permits will be used to determine the eligibility of applicants for permits they are requesting according to criteria in various Federal wildlife conservation laws, international treaties, and regulations on the issuance, suspension, revocation, or denial of permits.

The information collection requirements in this submission implement the regulatory requirements of the Endangered Species Act (16 U.S.C. 1531 et seq.), the Migratory Bird Treaty Act (16 U.S.C. 703 et seq.), the Lacey Act (16 U.S.C. 3371 et seq.), the Bald and Golden Eagle Protection Act (16 U.S.C. 668), the Convention on International Trade in Endangered Species of Wild Fauna and Flora (CITES) (27 U.S.T. 1087), the Marine Mammal Protection Act (16 U.S.C. 1361-1407 et seq), and the Wild Bird Conservation Act (16 U.S.C. 4901-4916 et seq), and are contained in Service regulations in Chapter I, Subchapter B of Title 50 Code of Federal Regulations (CFR). Generic permit application and record keeping requirements shared by our permit-issuing offices have been consolidated in 50 CFR part 13. The following table lists the application forms, with their respective burden estimates and applicable regulations, that we plan to submit to OMB for approval under the Paperwork Reduction Act.

Application No. | Activity | Total number of respondents annually | Estimated time to complete application (hours) | Total annual public reporting burden (hours) | Applicable regulation(s)
3-200-19 | Import of Sport-hunted Trophies of Southern African Leopard, African Elephant, and Namibian Southern White Rhinoceros | 880 | 0.3 | 264 | 50 CFR 17.40(e), 17.40(f), 23.11, 23.12, and 23.15
3-200-20 | Import of Sport-Hunted Trophies (Appendix I of CITES and/or ESA) | 50 | 1.0 | 50 | 50 CFR 17.21, 17.22, 17.31, 17.32, 23.11, and 23.15
3-200-21 | Import of Sport-Hunted Trophies of Argali | 220 | 0.8 | 165 | 50 CFR 17.31, 17.32 and 17.40(j)
3-200-22 | Import of Sport-Hunted Bontebok Trophies | 110 | 0.3 | 33 | 50 CFR 17.21 and 17.22
3-200-23 | Export of Pre-Convention, Pre-Act, or Antique Specimens (CITES and/or ESA) | 300 | 0.7 | 210 | 50 CFR 14.22, 17.4, 18.14, 23.11, 23.13(c), and 23.15
3-200-24 | Export of Live Captive-Born Animals (CITES) | 450 | 0.7 | 315 | 50 CFR 23.11, 23.12 and 23.15
3-200-25 | Export of Raptors | 100 | 1.0 | 100 | 50 CFR 21.21, 21.29, 23.11, 23.12 and 23.15
3-200-26 | Export of Skins/Products of Six Native Species: bobcat, lynx, river otter, Alaskan brown bear, Alaskan gray wolf, and American alligator (CITES) | 3760 | 0.3 | 1128 | 50 CFR 23.11, 23.12 and 23.15
3-200-27 | Export of Wildlife Removed from the Wild (CITES) | 10 | 0.7 | 7 | 50 CFR 23.11, 23.12 and 23.15
3-200-28 | Export/Re-Export of Trophies by Hunters or Taxidermists (CITES) | 60 | 0.5 | 30 | 50 CFR 23.11, 23.12 and 23.15
3-200-29 | Import/Export/Re-Export of Samples (Wildlife and or Biomedical) (CITES and/or ESA) | 600 | 1.5 | 615 | 50 CFR 17.21, 17.22, 17.31, 17.32, 23.11, 23.12, 23.13 and 23.15
3-200-30 | Export/Re-import of Circuses and Traveling Animal Exhibitions | 230 | 1.0 | 230 | 50 CFR 17.21, 17.22, 17.31, 17.32, 23.11, 23.12, 23.13 and 23.15
3-200-31 | Introduction from the Sea (CITES) | 40 | 2.0 | 80 | 50 CFR 23.11, 23.12, and 23.15
3-200-32 | Export/Re-Export of Plants (CITES) | 180 | 1.0 | 180 | 50 CFR 23.11, 23.12, 23.13 and 23.15
3-200-33 | Export of Artificially Propagated Plants (Multiple-use) | 100 | 2.0 | 200 | 50 CFR 17.61, 17.62, 17.71, 17.72, 23.11, 23.12, 23.13 and 23.15
3-200-34 | Export of American Ginseng* | 70 | 0.3 | 21 | 50 CFR 23.11, 23.12, 23.13, 23.15 and 23.51
3-200-35 | Import of Appendix-I Plants (CITES) | 10 | 1.0 | 10 | 50 CFR 23.11, 23.12, 23.13 and 23.15
3-200-36 | Export/Import/Interstate and Foreign Commerce of Plants (ESA and/or CITES) | 5 | 1.0 | 5 | 50 CFR 17.61, 17.62, 17.71, 17.72, 23.11, 23.12 and 23.15
3-200-37 | Export/Import/Interstate and Foreign Commerce/Take of Animals (ESA and/or CITES) | 230 | 2.0 | 460 | 50 CFR 17.21, 17.22, 17.31, 17.32, 23.11, 23.12 and 23.15
3-200-39 | Certificate of Scientific Exchange (CITES)* | 20 | 1.0 | 20 | 50 CFR 23.11, 23.13(g) and 23.15
3-200-40 | Export and Re-import of Museum Specimens (ESA)* | 10 | 1.0 | 10 | 50 CFR 17.21, 17.22, 17.31, 17.32, 17.61, 17.62, 17.71 and 17.72
3-200-41 | Captive-Bred Wildlife Registration* | 300 | 2.0 | 600 | 50 CFR 17.21(g) and 17.31
3-200-42 | Import/Transport of Injurious Wildlife | 35 | 2.0 | 70 | 50 CFR 16.22
3-200-43 | Take/Import/Transport/Export of Marine Mammals or Amendment of Existing Permit* | 100 | 4.0 | 400 | 50 CFR 18.11, 18.22, 18.31, 17.21, 17.22, 17.31, 17.32, 23.11, 23.12, 23.13 and 23.15
3-200-44 | Registration of an Agent/Tannery (MMPA)* | 20 | 0.5 | 10 | 50 CFR 18.11, 18.12 and 8.23(d)
3-200-45 | Import of Polar Bear Trophies Sport Hunted in Canada | 60 | 0.5 | 30 | 50 CFR 18.11, 18.12 and 18.30
3-200-46 | Import or Export of Personal Pets (CITES and/or WBCA) | 440 | 0.5 | 220 | 50 CFR 15.11, 15.12, 15.21 and 15.25
3-200-47 | Import of Birds for Scientific Research or Zoological Breeding and Display (WBCA) | 50 | 2.0 | 100 | 50 CFR 15.11, 15.12, 15.21, 15.22 and 15.23
3-200-48 | Import of Birds Under an Approved Cooperative Breeding Program (WBCA)* | 20 | 1.0 | 20 | 50 CFR 15.11, 15.12, 15.21 and 15.24
3-200-49 | Approval of a Cooperative Breeding Program (WBCA) | 10 | 3.0 3 | 0 | 50 CFR 15.11, 15.12, 15.21 and 15.26
3-200-50 | Approval of Sustainable Use Management Plan Under WBCA | 1 | 10 | 10 | 50 CFR 15.11, 15.12, 15.21 and 15.32
3-200-51 | Approval of Sustainable Use Management Plan Under WBCA | 1 | 8 | 8 | 50 CFR 15.11, 15.12, 15.21 and 15.41
3-200-52 | Reissuance or Renewal of a Permit | 200 | 0.3 | 50 | 50 CFR 13.21 and 13.22
3-200-53 | Export/Re-Export of Captive-Held Marine Mammals (CITES) | 20 | 2.0 | 40 | 50 CFR Part 18, 23.11, 23.12, 23.13 and 23.15
3-200-58 | Retrospective Documents** | 50 | 1.0 | 50 | 50 CFR 23.11, 23.15
3-200-64 | Certificate of Ownership for Personally Owned Wildlife “Pet passport” (CITES)** | 400 | 0.5 | 200 | 50 CFR 23.11, 23.15
3-200-65 | Registration of Appendix-I Commercial Breeding Operations (CITES)** | 15 | 44.5 | 245 | 50 CFR 23.11, 23.15
3-200-66 | Replacement Documents (CITES)** | 50 | 0.5 | 25 | 23.11, 23.15
3-200-73 | Re-Export of Wildlife (CITES)** | 300 | 0.5 | 150 | 50 CFR 23.11, 23.12 and 23.15
Total Hours |  | 9507 |  | 6391 |
* Note: There is a reporting requirement associated with the issuance of permits granted as a result of this information collection which is included in the estimated burden. Required information to be submitted is outlined on the corresponding permits issued.
** Note: These are new forms.

Title: Federal Fish and Wildlife Permit Application, Management Authority.

OMB Number: 1018-0093.

Service Form Numbers: 3-200-19 through 3-200-37, 3-200-39 through 3-200-53 and 3-200-58, 3-200-64 through 3-200-66, and 3-200-73.

Frequency of Collection: On occasion.

Description of Respondents: Individuals, biomedical companies, circuses, zoological parks, botanical gardens, nurseries, museums, universities, scientists, antique dealers, exotic pet industry, hunters, taxidermists, commercial importers/exporters of wildlife and plants, freight forwarders/brokers, local, State, tribal and Federal governments.

Total Annual Responses: 9507 responses.

Total Annual Burden Hours: 6391 hours.

Dated: March 14, 2003.
Charlie R. Chandler,
Chief, Branch of Permits—Domestic, Division of Management Authority.

[FR Doc. 03-7568 Filed 3-28-03; 8:45 am]

BILLING CODE 4310-55-P